DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held March 14-16, 2005, starting at 9 a.m.

ADDRESSES: The meeting will be held at Science Applications International Corporation (SAIC), 400 Virginia Ave., SW., Suite 800, Washington DC 20024-2730.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 189/EUROCA Working Group 53 meeting. The agenda will include:

• March 14-15:

• Opening Plenary Session (Welcome and Introductory Remarks, Review/Approval of Meeting, Review/Approval of Meeting Minutes)

• SC-189/WG-53 co-chair report and review of work program

• Progress work on PU-24, Version 4.0

• Progress work on PU-40, Revision G

• March 16:

• Closing Plenary Session

• Debrief on progress for the work

• Review schedule and action items

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 8, 2005.
Natalie Oglette,
FAA General Engineer, RTCA Advisory Committee.

[FR Doc. 05-3613 Filed 2-24-05; 8:45 am]

BILLING CODE 4910-13-M